DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2014, there were six applications approved. This notice also includes information on one application, approved in April 2014, inadvertently left off the April 2014 notice. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. No. 101-508) and Part 158 of the Federal Aviation Regulations (14 CFR Part 158). This notice is published pursuant to paragraph d of § 158.29.

PFC Applications Approved

Public Agency: Counties of Lackawanna and Luzerne, Avoca, Pennsylvania.

Application Number: 14-11-C-00-AVP.

Application Type: Impose and use a PFC.

PFC Level: $4.50.

Total PFC Revenue Approved In This Decision: $657,718.

Earliest Charge Effective Date: July 1, 2031.

Estimated Charge Expiration Date: July 1, 2033.

Class Of Air Carriers Not Required To Collect PFC'S: None.

Brief Description Of Project Approved For Collection And Use: Taxiway B extension (environmental assessment, design, and construct).

Decision Date: April 29, 2014.

FOR FURTHER INFORMATION CONTACT: Lori Ledebohm, Harrisburg Airports District Office, (717) 730-2835.

Public Agency: City of Bismarck, North Dakota.

Application Number: 14-06-C-00-BIS.

Application Type: Impose and use a PFC.

PFC Level: $4.50.

Total PFC Revenue Approved In This Decision: $3,338,878.

Earliest Charge Effective Date: February 1, 2022.

Estimated Charge Expiration Date: June 1, 2025.

Class Of Air Carriers Not Required To Collect PFC'S: Non-scheduled/on-demand air carriers filing FAA Form 1800-31.

Determination: Approved. Based on information contained in the public agency's application, the FAA has determined that the proposed class accounts for less than 1 percent of the total annual enplanements at Bismarck Municipal Airport.

Brief Description Of Projects Approved For Collection And Use:

Acquire snow removal equipment—plow #1.

PFC application preparation.

Commercial service cooling tower.

Rehabilitate and expand cargo apron.

Reconstruct commercial service apron (includes portion of taxiway C).

Construct north electrical building.

Rehabilitate taxiway C—south of commercial apron.

Rehabilitate taxiway D—rejuvenator.

Rejuvenate service roads.

Acquire passenger loading stairs (portable).

Rehabilitate portion of runway 13/31 (mill and patch).

Environmental assessment—general aviation expansion.

Reconstruct and realignment of taxiway B.

Wildlife hazard assessment.

Corporate Circle Street extension.

Acquire snow removal equipment—plow #2.

Snow removal equipment building ramp rehabilitation.

Rehabilitation of jet bridge 1.

General aviation apron rehabilitation.

North general aviation apron expansion.

Brief Description Of Project Partially Approved For Collection And Use: Acquire aircraft rescue and firefighting vehicle.

Determination: Two components, a foam trailer and a hand held thermal imaging camera did not meet the requirements of § 158.15(b) and were not approved.

Decision Date: May 7, 2014.

FOR FURTHER INFORMATION CONTACT: Nancy Nistler, Bismarck Airports District Office, (612) 253-4638.

Public Agency: City of Abilene, Texas.

Application Number: 14-03-C-00-ABI.

Application Type: Impose and use a PFC.

PFC Level: $4.50.

Total PFC Revenue Approved In This Decision: $3,425,497.

Earliest Charge Effective Date: July 1, 2014.

Estimated Charge Expiration Date: March 1, 2024.

Class Of Air Carriers Not Required To Collect PFC'S: None.

Brief Description Of Projects Approved For Collection And Use:

Rehabilitate air carrier ramp.

Rehabilitate runway 17L/35R lighting.

Improve terminal building.

Rehabilitate taxilane.

Acquire 1,500 gallon aircraft rescue and firefighting vehicle.

Conduct wildlife hazard assessment and wildlife hazard management plan.

Rehabilitate taxiways C, C1, C2, C3, and EASI.

Rehabilitate airport beacon.

Rehabilitate taxiways M, N, and P.

Runway 17L/35R rehabilitation, design.

Brief Description Of Project Partially Approved For Collection And Use: PFC administration costs.

Determination. Partially approved. Two components of the project were determined not to meet the requirements of § 158.3, Definitions, “PFC administrative support costs,” and were not approved.

Decision Date: May 9, 2014.

FOR FURTHER INFORMATION CONTACT: Julieann Dwyer, Southwest Region Airports Division, (817) 222-5612.

Public Agency: Delaware River and Bay Authority, New Castle, Delaware.

Application Number: 14-01-C-00-ILG.

Application Type: Impose and use a PFC.

PFC Level: $4.50.

Total PFC Revenue Approved In This Decision: $1,810,089.

Earliest Charge Effective Date: July 1, 2014.

Estimated Charge Expiration Date: May 1, 2017.

Class Of Air Carriers Not Required To Collect PFC'S: None.

Brief Description Of Projects Approved For Collection And Use:

Rehabilitate runway 9/27.

Improve runway 1/19 runway safety area.

Extend taxiway H.

Security enhancements, phase II.

Acquire snow removal equipment—high-speed blower and dump truck with plow.

Master plan study—update terminal area plan.

PFC application and administration.

Rehabilitate runway 1/19.

Improve runway 19 safety area.

Remove obstructions—off airport.

Acquire snow removal equipment—dump truck with snow plow.

Rehabilitate runway 1/19 (environmental assessment and design).

Improve taxiways B and E (design).

Expand terminal apron—phase I (design).

Extend taxiway D.

Extend/widen taxiway F and associated connector taxiways.

Construct taxiway L.

Rehabilitate terminal building.

Improve runway 9/27 runway safety area.

Rehabilitate taxiway M (design) and construct taxiway K-4 (design).

Rehabilitate taxiway A—phase I (design).

Install airfield electrical vault.

Decision Date: May 15, 2014.

FOR FURTHER INFORMATION CONTACT: Lori Ledebohm, Harrisburg Airports District Office, (717) 730-2835.

Public Agency: Southeast Iowa Regional Airport Authority, Burlington, Iowa.

Application Number: 14-02-C-00-BRL.

Application Type: Impose and use a PFC.

PFC Level: $4.50.

Total PFC Revenue Approved In This Decision: $420,485.

Earliest Charge Effective Date: February 1, 2021.

Estimated Charge Expiration Date: June 1, 2035.

Class Of Air Carriers Not Required To Collect PFC'S: None.

Brief Description Of Projects Approved For Collection And Use:

Rehabilitate taxiway A.

Rehabilitate runway 18/36 part I.

Rehabilitate taxiway C part I.

Security enhancements.

Rehabilitate runway 18/36 part II.

Acquire aircraft rescue and firefighting vehicle.

Update airport master plan study.

Acquire aircraft rescue and firefighting vehicle part I.

Acquire aircraft rescue and firefighting vehicle part II.

Rehabilitate taxiway—pavement markings.

Rehabilitate taxiway design.

Rehabilitate taxiway construct.

Rehabilitate apron.

Acquire land for approaches.

Decision Date: May 20, 2014.

FOR FURTHER INFORMATION CONTACT: Sheila Bridges, Central Region Airports Division, (816) 329-2638.

Public Agency: County of Tompkins, Ithaca, New York.

Application Number: 14-03-C-00-ITH.

Application Type: Impose and use a PFC.

PFC Level: $4.50.

Total PFC Revenue Approved In This Decision: $677,500.

Earliest Charge Effective Date: May 1, 2016.

Estimated Charge Expiration Date: February 1, 2018.

Class Of Air Carriers Not Required To Collect PFC'S: Nonscheduled/on-demand air taxi/commercial operators filing FAA Form 1800-31.

Determination: Approved. Based on information contained in the public agency's application, the FAA has determined that the proposed class accounts for less than 1 percent of the total annual enplanements at Ithaca Tompkins Regional Airport.

Brief Description Of Projects Approved For Collection And Use:

Terminal building security improvements.

Runway overlay (design).

Terminal apron expansion construction and inspection.

Aircraft rescue and firefighting vehicle.

Snow removal equipment.

PFC administrative costs.

Decision Date: May 23, 2014.

FOR FURTHER INFORMATION CONTACT: Ryan Allen, New York Airports District Office, (718) 995-5790.

Public Agency: Nantucket Airport Commission, Nantucket, Massachusetts.

Application Number: 14-01-C-00-ACK.

Application Type: Impose and use a PFC.

PFC Level: $4.50.

Total PFC Revenue Approved In This Decision: $6,942,081.

Earliest Charge Effective Date: July 1, 2014.

Estimated Charge Expiration Date: May 1, 2024.

Class Of Air Carriers Not Required To Collect PFC'S: Air taxi/commercial operators.

Determination: Approved. Based on information contained in the public agency's application, the FAA has determined that the proposed class accounts for less than 1 percent of the total annual enplanements at Nantucket Memorial Airport.

Brief Description Of Projects Approved For Collection And Use:

Passenger terminal building renovation and expansion.

Re-align and widen south apron taxiway connector.

Airport master plan.

PFC program administration.

Decision Date: May 28, 2014.

FOR FURTHER INFORMATION CONTACT: Priscilla Scott, New England Region Airports Division, (781) 238-7614.

Amendment to PFC Approvals
Amendment No. City, State | Amendment approved date | Original approved net PFC revenue | Amended approved net PFC revenue | Original estimated charge exp. date | Amended estimated charge exp. date
12-08-C-01-PSC, Pasco, WA | 05/01/14 | $3,865,000 | $865,000 | 02/01/18 | 10/01/12
13-09-C-01-PSC, Pasco, WA | 05/01/14 | $7,140,000 | $138,562 | 08/01/23 | 01/01/13
10-12-C-02-ATL, Atlanta, GA | 05/08/14 | $19,332,000 | $18,828,980 | 09/01/22 | 09/01/22
91-01-C-01-TVL, South Lake Tahoe, CA | 05/14/14 | $928,747 | $169,838 | 03/01/07 | 03/01/07
04-03-C-03-MFE, McAllen, TX | 05/21/14 | $6,133,439 | $224,556 | 10/01/10 | 10/01/10

Issued in Washington, DC, on June 9, 2014.
Joe Hebert,
Manager, Financial Analysis and Passenger Facility Charge Branch.

[FR Doc. 2014-14051 Filed 6-13-14; 8:45 am]

BILLING CODE 4910-13-P